DEPARTMENT OF COMMERCE

National Oceanic and Atmospheric Administration

RIN 0648-XA634

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Monkfish Oversight Committee on August 31, 2011 to consider actions affecting New England fisheries in the exclusive economic zone (EEZ). Recommendations from this group will be brought to the full Council for formal consideration and action, if appropriate.

DATES: This meeting will be held on Wednesday, August 31, 2011 at 9 a.m.

ADDRESSES: The meeting will be held at the Best Western Wynwood Hotel, 580 U.S. Highway 1, Interstate Traffic Circle, Portsmouth, NH 03801; telephone: (603) 436-7600; fax: (603) 436-7600.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: At the last meeting, the Committee tasked the Monkfish Advisory Panel (AP) and the Monkfish Plan Development Team (PDT) to elaborate and substantiate the bullet list of problems and issues developed by the AP and Committee after the scoping session on Amendment 6, in which the New England and Mid-Atlantic Councils are considering catch shares management for the monkfish fishery. At this meeting, the Committee will review the AP and PDT reports and develop a recommended set of goals and objectives for Amendment 6 for approval by the Councils.

The Committee will also hold a closed session at the end of the meeting to review applications for recently vacated AP seats. The Committee's recommendations will be transmitted to the Executive Committee for approval.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: August 8, 2011.
Tracey L. Thompson,
Acting Director, Office of Sustainable Fisheries, National Marine Fisheries Service.

[FR Doc. 2011-20470 Filed 8-11-11; 8:45 am]

BILLING CODE 3510-22-P